SECURITIES AND EXCHANGE COMMISSION

Sunshine Act Meeting

Notice is hereby given, pursuant to the provisions of the Government in the Sunshine Act, Public Law 94-409, that the Securities and Exchange Commission Investor Advisory Committee will hold a meeting on Thursday, March 9, 2017, in Multi-Purpose Room LL-006 at the Commission's headquarters, 100 F Street NE., Washington, DC 20549. The meeting will begin at 9:00 a.m. (ET) and will be open to the public. Seating will be on a first-come, first-served basis. Doors will open at 8:30 a.m. Visitors will be subject to security checks. The meeting will be webcast on the Commission's Web site at www.sec.gov.

On February 13, 2017, the Commission issued notice of the Committee meeting (Release No. 33-10306), indicating that the meeting is open to the public (except during that portion of the meeting reserved for an administrative work session during lunch), and inviting the public to submit written comments to the Committee. This Sunshine Act notice is being issued because a quorum of the Commission may attend the meeting.

The agenda for the meeting includes: Remarks from Commissioners; a discussion regarding SEC investor research initiatives, the FINRA 2016 Financial Capability Study, and academic research on financial literacy; a discussion regarding unequal voting rights of common stock; a report on the nonpublic administrative work session; and a nonpublic administrative work session during lunch.

For further information, please contact Brent J. Fields from the Office of the Secretary at (202) 551-5400.

Dated: March 2, 2017.
Brent J. Fields,
Secretary.

[FR Doc. 2017-04495 Filed 3-3-17; 11:15 am]

BILLING CODE 8011-01-P